DEPARTMENT OF THE INTERIOR

Bureau of Land Management

[L12320000 EA0000 LVRDNV130000 LLNVL00000; MO# 4500061864; TAS: 14X1125]

Notice of Temporary Closure of the Ash Springs Recreation Site on Public Lands in Lincoln County, NV

AGENCY: Bureau of Land Management, Interior.

ACTION: Notice.

SUMMARY: This is to notify the public that a temporary closure is in effect on public lands at the Ash Springs Recreation Site administered by the Bureau of Land Management (BLM) Ely District, Caliente Field Office as authorized under the provisions of the Federal Land Policy and Management Act of 1976 and pursuant to BLM regulations for the protection of persons, property, and public lands and resources.

DATES: This temporary closure is in effect on July 7, 2014, until March 1, 2016.

FOR FURTHER INFORMATION CONTACT: Victoria Barr, Caliente Field Manager, 775-726-8100, email vbarr@blm.gov. Persons who use a telecommunications device for the deaf (TDD) may call the Federal Information Relay Service (FIRS) at 1-800-877-8339 to contact Ms. Barr. The FIRS is available 24 hours a day, 7 days a week, to leave a message or question for Ms. Barr. You will receive a reply during normal business hours.

SUPPLEMENTARY INFORMATION: The Ash Springs Recreation Site is located approximately 100 miles north of Las Vegas along U.S. Highway 93 in Pahranagat Valley in Lincoln County. The recreation site is defined by an existing fence and the closed lands are limited to the fenced area. The affected public lands are described as follows:

Mount Diablo Meridian

T. 6 S., R. 61 E. Sec. 6, Lot 8.

The lands described contain 1.18 acres, more or less, in Lincoln County, Nevada.

A temporary closure of the Ash Springs Recreation Site is necessary due to extensive unauthorized modification of a man-made pool and a natural pool by public users that is causing a threat to human safety and degrading habitat for endangered species. During the temporary-closure period, the BLM will work collaboratively with stakeholders to develop a long-term management plan to determine the type and level of use suitable for the area while protecting critical habitat for the endangered White River springfish. In addition to the endangered springfish, Ash Springs provides habitat for three BLM Nevada sensitive species: Pahranagat naucorid bug, Grated tyronia, and Pahranagat pebblesnail.

The BLM analyzed the temporary closure through Environmental Assessment (EA) DOI-BLM-NV-L030-0032-EA. A 15-day public comment period was provided on the EA which only analyzed the action of temporarily closing the public lands of the Ash Spring Recreation Site to public uses. The BLM would analyze any actions for repairing/rehabilitating the site through a separate decision document in compliance with the National Environmental Policy Act incorporating public comments.

This temporary closure order is posted at the BLM Ely District Office, Ely, Nevada, and at the Caliente Field Office, Caliente, Nevada. This temporary closure applies to all members of the public except: (1) BLM personnel for administrative purposes; (2) Emergency and law enforcement personnel and vehicles while being used for emergency or administrative purposes; and (3) Any person authorized in writing by the Ely District Manager or the Caliente Field Manager. If the BLM is unable to negate the risks to public safety and endangered species habitat within the 2-year timeframe, the BLM will consider extending the temporary closure order.

Penalties: Any person who fails to comply with this temporary closure order is subject to arrest and, upon conviction, may be fined not more than $1,000 and/or imprisonment for not more than 12 months.

Authority: (Authority: 43 CFR 8364.1)

Victoria Barr,
Manager, Caliente Field Office.

[FR Doc. 2014-13180 Filed 6-5-14; 8:45 am]

BILLING CODE 4310-HC-P